DEPARTMENT OF COMMERCE

International Trade Administration

[A-570-964]

Seamless Refined Copper Pipe and Tube From the People's Republic of China: Final Results of Antidumping Duty Administrative Review; 2014-2015

AGENCY: Enforcement and Compliance, International Trade Administration, Department of Commerce.

SUMMARY: On December 14, 2016, the Department of Commerce (the Department) published in the Federal Register the preliminary results of the 2014-2015 administrative review of the antidumping duty order on seamless refined copper pipe and tube from the People's Republic of China (PRC). The period of review (POR) is November 1, 2014, through October 31, 2015. The review covers two mandatory respondents, the Hailiang Single Entity and the Golden Dragon (GD) Single Entity. We invited parties to comment on our preliminary results. Based on our analysis of the comments received, we made certain changes to the margin calculation for the Hailiang Single Entity. Interested parties did not comment on our margin calculation for the GD Single Entity, and we continue to find that the GD Single Entity did not sell subject merchandise in the United States at less than normal value during the POR. The final weighted-average dumping margins for this review are listed in the “Final Results of Administrative Review” section, below.

DATES: Effective June 16, 2017.

FOR FURTHER INFORMATION CONTACT: Drew Jackson and Stephen Bailey, AD/CVD Operations, Office IV, Enforcement and Compliance, International Trade Administration, U.S. Department of Commerce, 1401 Constitution Avenue NW., Washington, DC 20230; telephone: (202) 482-4406 and (202) 482-0193, respectively.

SUPPLEMENTARY INFORMATION:

Background

On December 14, 2016, the Department published its Preliminary Results in the Federal Register, and invited interested parties to comment on those results.¹ The review covers two mandatory respondents the Hailiang Single Entity ² and the GD Single Entity.³ On January 13, 2017, Hailiang ⁴ timely filed a case brief and request for an administrative hearing.⁵ On January 18, 2017, the petitioners ⁶ timely filed a rebuttal brief.⁷ On May 19, 2017, Hailiang withdrew its request for an administrative hearing.⁸ On May 24, 2017, Department officials met with counsel for Hailiang.⁹ On March 20, 2017, in accordance with section 751(a)(3)(A) of the Tariff Act of 1930, as amended (the Act), the Department extended the period for issuing the final results of this review by 60 days.¹⁰ The revised deadline for these final results of review is June 12, 2017.

¹ See Seamless Refined Copper Pipe and Tube from the People's Republic of China: Preliminary Results of Administrative Review; 2014-2015, 81 FR 90322 (December 14, 2016) (Preliminary Results), and accompanying Preliminary Decision Memorandum. On December 27, 2016, a duplicate version of the Preliminary Results was published in the Federal Register as the result of a clerical error. See Seamless Refined Copper Pipe and Tube from the People's Republic of China: Preliminary Results of Administrative Review; 2014-2015, 81 FR 95110 (December 27, 2016). These two publications are identical in content.

² The Hailiang Single Entity includes the following companies: (1) Hong Kong Hailiang Metal Trading Limited/(2) Zhejiang Hailiang Co., Ltd./(3) Shanghai Hailiang Copper Co., Ltd./and (4) Hailiang (Anhui) Copper Co., Ltd., (collectively, Hailiang Single Entity). See Preliminary Results, 81 FR at 95112.

³ The GD Single Entity includes the following companies: (1) Golden Dragon Precise Copper Tube Group, Inc./(2) Golden Dragon Holding (Hong Kong) International Co., Ltd./(3) Hong Kong GD Trading Co., Ltd./(4) Shanghai Longyang Precise Copper Compound Copper Tube Co., Ltd./(5) Jiangsu Canghuan Copper Industry Co., Ltd./(6) Guangdong Longfeng Precise Copper Tube Co., Ltd./(7) Wuxi Jinlong Chuancun Precise Copper Tube Co., Ltd./(8) Longkou Longpeng Precise Copper Tube Co., Ltd./(9) Xinxiang Longxiang Precise Copper Tube Co., Ltd./(10) Coaxian Ailun Metal Processing Co., Ltd./and (11) Chonqing Longyu Precise Copper Tube Co., Ltd. See Preliminary Results, 81 FR at 95112.

⁴ The respondent's submissions in this administrative review are filed on behalf of Hong Kong Hailiang Metal Trading Limited/Zhejiang Hailiang Co., Ltd./and Shanghai Hailiang Copper Co., Ltd. (collectively, Hailiang).

⁵ See Hailiang's Case Brief, “Hailiang's Administrative Case Brief and Request for Administrative Hearing Administrative Review of the Antidumping Order on Seamless Refined Copper Pipe & Tube from the People's Republic of China,” dated January 13, 2017.

⁶ The petitioners in this administrative review are the Ad Hoc Coalition for Domestically Produced Seamless Refined Copper Pipe and Tube, and its individual members, Cerro Flow Products, LLC, Wieland Copper Products, LLC, Mueller Copper Tube Products, Inc., and Mueller Copper Tube Company, Inc.

⁷ See Petitioners' Rebuttal Brief, “Seamless Refined Copper Pipe and Tube from China: Petitioner's Rebuttal Brief,” dated January 18, 2017.

⁸ See Letter to Hon. Wilbur L. Ross, Secretary of Commerce, from Hailiang, concerning, “Hailiang's Request for Ex-Parte Meeting and Withdrawal of Hearing Request in the Administrative Review of the Antidumping Order on Seamless Refined Copper Pipe & Tube from the People's Republic of China (A-570-964),” dated May 19, 2017.

⁹ See Memorandum, “2014-2015 Administrative Review of the Antidumping Duty Order on Seamless Refined Copper Pipe and Tube from the People's Republic of China: Meeting with Counsel for Hong Kong Hailiang Metal Trading Limited/Zhejiang Hailiang Co., Ltd./and Shanghai Hailiang Copper Co., Ltd.,” dated May 25, 2017.

¹⁰ See Letter to Hon. Wilbur L. Ross, Secretary of Commerce, from Hailiang, concerning, “2014-2015 Administrative Review of the Antidumping Duty Order on Seamless Refined Copper Pipe and Tube from the People's Republic of China: Extension of Deadline for Final Results of Antidumping Duty Administrative Review,” dated March 20, 2017.

Scope of the Order

The merchandise subject to the order is seamless refined copper pipe and tube. The product is currently classified under Harmonized Tariff Schedule of the United States (HTSUS) item numbers 7411.10.1030 and 7411.10.1090. Products subject to this order may also enter under HTSUS item numbers 7407.10.1500, 7419.99.5050, 8415.90.8065, and 8415.90.8085. Although the HTSUS numbers are provided for convenience and customs purposes, the written description of the scope of this order remains dispositive.¹¹

¹¹ See Issues and Decision Memorandum for a complete description of the Scope of the Order.

Methodology

The Department conducted this review in accordance with section 751(a)(1)(B) of the Act. Export prices and constructed export prices have been calculated in accordance with section 772 of the Act. Because the PRC is a non-market economy within the meaning of section 771(18) of the Act, normal value has been calculated in accordance with section 773(c) of the Act.

For a full description of the methodology underlying our conclusions, please see Issues and Decision Memorandum.¹² The Issues and Decision Memorandum is a public document and is on file electronically via Enforcement and Compliance's Antidumping and Countervailing Duty Centralized Electronic Service System (ACCESS). ACCESS is available to registered users at http://access.trade.gov, and is available to all parties in the Central Records Unit, room B8024 of the main Department of Commerce building. In addition, a complete version of the Issues and Decision Memorandum can be accessed directly at http://enforcement.trade.gov/frn/. The signed paper copy and electronic version of the Issues and Decision Memorandum are identical in content.

¹² See Memorandum, “Issues and Decision Memorandum for the Final Results of the 2014-2015 Administrative Review of the Antidumping Duty Order on Seamless Refined Copper Pipe and Tube from the People's Republic of China,” dated concurrently with and hereby adopted by this notice, (Issues and Decision Memorandum). A list of topics discussed in the Issues and Decision Memorandum is provided in the Appendix to this notice.

Changes Since the Preliminary Results

Based on a review of the record and comments received from interested parties regarding our Preliminary Results, we made the following revisions to the margin calculation for the Hailiang Single Entity:

• We revised our calculation of the inland freight (i.e., truck freight) surrogate value; ¹³

¹³ See Issues and Decision Memorandum at Comment 3; see also Memorandum, “2014-2015 Antidumping Duty Administrative Review of Seamless Refined Copper Pipe and Tube from the People's Republic of China: Analysis Memorandum for the Hailiang Single Entity,” dated concurrently with this decision memorandum (Hailiang Final Analysis Memorandum).

• We revised the calculation of packing labor; ¹⁴

¹⁴ Id. at Comment 4-A; see also Hailiang Final Analysis Memorandum.

• We revised the calculation of the recycled copper by-product; ¹⁵

¹⁵ Id. at Comment 4-B; see also Hailiang Final Analysis Memorandum.

• We revised the calculation of cathode copper; ¹⁶ and

¹⁶ Id. at Comment 4-C; see also Hailiang Final Analysis Memorandum.

• We corrected the date of sale variable.¹⁷

¹⁷ Id. at Comment 4-D; see also Hailiang Final Analysis Memorandum.

Final Results of Administrative Review

We determine that the following weighted-average dumping margins exist for the POR:

Exporter | Weighted- average dumping margins (percent)
Golden Dragon Precise Copper Tube Group, Inc./Golden Dragon Holding (Hong Kong) International Co., Ltd./Hong Kong GD Trading Co., Ltd./Shanghai Longyang Precise Copper Compound Copper Tube Co., Ltd./Jiangsu Canghuan Copper Industry Co., Ltd./Guangdong Longfeng Precise Copper Tube Co., Ltd./Wuxi Jinlong Chuancun Precise Copper Tube Co., Ltd./Longkou Longpeng Precise Copper Tube Co., Ltd./Xinxiang Longxiang Precise Copper Tube Co., Ltd./Coaxian Ailun Metal Processing Co., Ltd./Chonqing Longyu Precise Copper Tube Co., Ltd | 0.00
Hong Kong Hailiang Metal Trading Limited/Zhejiang Hailiang Co., Ltd./Shanghai Hailiang Copper Co., Ltd./Hailiang (Anhui) Copper Co., Ltd | 0.00

Because no party requested a review of the PRC-wide entity and the Department no longer considers the PRC-wide entity as an exporter conditionally subject to administrative reviews,¹⁸ we did not conduct a review of the PRC-wide entity. Thus, the weighted-average dumping margin for the PRC-wide entity (i.e., 60.85 percent) ¹⁹ is not subject to change as a result of this review.

¹⁸ See Antidumping Proceedings: Announcement of Change in Department Practice for Respondent Selection in Antidumping Duty Proceedings and Conditional Review of the Nonmarket Economy Entity in NME Antidumping Duty Proceedings, 78 FR 65963, 65969-70 (November 4, 2013).

¹⁹ See Seamless Refined Copper Pipe and Tube From the People's Republic of China: Final Determination of Sales at Less Than Fair Value, 75 FR 60725 (October 1, 2010).

Assessment

Pursuant to section 751(a)(2)(C) of the Act, and 19 CFR 351.212(b), the Department will determine, and U.S. Customs and Border Protection (CBP) shall assess, antidumping duties on all appropriate entries of subject merchandise covered by this review. The Department intends to issue assessment instructions to CBP 15 days after the publication date of the final results of this review.

For the companies listed above, which comprise the GD Single Entity and the Hailiang Single Entity, the weighted-average dumping margins are zero. Therefore, we will instruct CBP to liquidate the appropriate entries for these companies without regard to antidumping duties.

For the PRC-wide entity, the Department will instruct CBP to liquidate all appropriate entries at an assessment rate for antidumping duties equal to the weighted-average dumping margin listed above in the Final Results of Administrative Review section.

For entries that were not reported in the U.S. sales databases submitted by companies individually examined during this review, the Department will instruct CBP to liquidate such entries at the PRC-wide rate.²⁰

²⁰ See Non-Market Economy Antidumping Proceedings: Assessment of Antidumping Duties, 76 FR 65694 (October 24, 2011).

The final results of this review shall be the basis for the assessment of antidumping duties on entries of merchandise covered by the final results of this review and for future cash deposits of estimated antidumping duties, where applicable.

Cash Deposit Requirements

The following cash deposit requirements will be effective upon publication of the final results of this administrative review for shipments of the subject merchandise from the PRC entered, or withdrawn from warehouse, for consumption on or after the publication date, as provided by section 751(a)(2)(C) of the Act: (1) For the exporters identified above, the cash deposit rate will be zero; (2) for previously investigated or reviewed PRC and non-PRC exporters not listed above that received a separate rate in a previously completed segment of this proceeding, the cash deposit rate will continue to be the existing exporter-specific rate published for the most recent period; (3) for all PRC exporters of subject merchandise that have not been found to be entitled a separate rate, the cash deposit rate will be that for the PRC-wide entity (i.e., 60.85 percent); and (4) for all non-PRC exporters of subject merchandise which have not received their own rate, the cash deposit rate will be the rate applicable to the PRC exporter that supplied that non-PRC exporter. These deposit requirements, when imposed, shall remain in effect until further notice.

Disclosure

We intend to disclose the calculations performed for these final results within five days of the date of publication of this notice in accordance with 19 CFR 351.224(b).

Notification to Importers Regarding the Reimbursement of Duties

This notice also serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of doubled antidumping duties.

Notifications to All Parties

This notice also serves as a final reminder to parties subject to Administrative Protective Order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

We are issuing and publishing these final results of administrative review and notice in accordance with sections 751(a)(1) and 777(i) of the Act and 19 CFR 351.213 and 19 CFR 351.221(b)(5).

Dated: June 12, 2017.
Ronald K. Lorentzen,
Acting Assistant Secretary for Enforcement and Compliance.

Appendix—Issues and Decision Memorandum

I. Summary

II. Background

III. Scope of the Order

IV. Discussion of the Issues

Comment 1: International Freight Surrogate Value

Comment 2: Irrecoverable Value-Added Tax Adjustment

Comment 3: Truck Freight Surrogate Value

Comment 4: Preliminary Margin Calculation Clerical Errors

A. Treatment of Packing Labor

B. Calculation of By-Product

C. Copper Cathode Calculation

D. Date of Sale Variable

V. Recommendation

[FR Doc. 2017-12525 Filed 6-15-17; 8:45 am]

BILLING CODE 3510-DS-P